EXPORT-IMPORT BANK OF THE U.S.

[Public Notice 2011-0002]

Agency Information Collection Activities: Final Collection; Comment Request

AGENCY: Export-Import Bank of the U.S.

ACTION: Submission for OMB review and comments request.

Form Title: Letter of Interest Application (EIB 95-09).

SUMMARY: The Export-Import Bank of the United States (Ex-Im Bank), as a part of its continuing effort to reduce paperwork and respondent burden, invites the general public and other Federal Agencies to comment on the proposed information collection, as required by the Paperwork Reduction Act of 1995.

Our customers will be able to submit this form on paper or electronically. The information collected will allow Ex-Im Bank to determine the applicability of a proposed export transaction for receipt of an indication of a willingness to consider financing medium- and long-term guarantee, direct loan and insurance programs.

Form can be viewed at http://www.exim.gov/pub/pending/EIB95_09.pdf.

DATES: Comments should be received on or before March 25, 2011 to be assured of consideration.

ADDRESSES: Comments may be submitted electronically on http://www.regulations.gov or by mail to Michele Kuester, Export Import Bank of the United States, 811 Vermont Ave., NW., Washington, DC 20571.

SUPPLEMENTARY INFORMATION: Titles and Form Number: EIB 95-09. Letter of Interest Application.

OMB Number: 3048-0005.

Type of Review: Regular.

Need and Use: Ex-Im Bank's Letter of Interest (LI) is a pre-export tool to help get financing off to a quick start. The LI is an indication of Ex-Im's willingness to consider financing for a given export transaction. LIs are used during the bidding or negotiating stage of an export sale or before going on a marketing trip.

Ex-Im Bank uses the requested information to determine the applicability of the proposed export transaction for receipt of this indication of willingness to consider financing.

Affected Public: This form affects entities involved in the export of U.S. goods and services.

Annual Number of Respondents: 400.

Estimated Time per Respondent: 0.5 hours.

Government Annual Burden Hours: 200.

Frequency of Reporting or Use: On occasion.

Sharon A. Whitt,
Agency Clearance Officer.

[FR Doc. 2011-1308 Filed 1-21-11; 8:45 am]

BILLING CODE 6690-01-P